DEPARTMENT OF ENERGY

Federal Energy Regulatory Commission

[Docket No. EG02-172-000, et al.]

Genova Oklahoma I, LLC, et al.; Electric Rate and Corporate Regulation Filings

July 31, 2002.

The following filings have been made with the Commission. The filings are listed in ascending order within each docket classification.

1. Genova Oklahoma I, LLC

[Docket No. EG02-172-000]

Take notice that on July 25, 2002, Genova Oklahoma I, LLC, 5700 West Plano Parkway, Suite 1000, Plano, Texas 75093, filed with the Federal Energy Regulatory Commission (Commission) an application for determination of exempt wholesale generator status pursuant to part 365 of the Commissions regulations.

Genova Oklahoma I, LLC states it is a limited liability company, organized under the laws of the State of Delaware, and is engaged directly and exclusively in owning and operating the Genova Oklahoma I, LLC electric generating facility (the Project) to be located in Grady County, Oklahoma, and selling electric energy at wholesale from the Project. The Project will consist of a combined cycle combustion turbine unit with a nominal rating of approximately 580 megawatts and associated transmission interconnection components.

Comment Date: August 21, 2002.

2. San Diego Gas & Electric Company, Complainant, v. Sellers of Energy and Ancillary Services Into Markets Operated by the California Independent System Operator and the California Power Exchange, Respondents

[Docket Nos. EL00-95-066 and EL01-68-018]

Investigation of Practices of the California Independent System Operator and the California Power Exchange

[Docket No. EL00-98-055]

Take notice that on July 24, 2002, the California Independent System Operator Corporation (ISO) submitted a filing with the Federal Energy Regulatory Commission (Commission) in compliance with the Commission's July 11, 2002, “Order on Rehearing, Reconsideration and Clarification” 100 FERC ¶ 61,050.

The ISO states that it has served copies of this filing upon all parties listed on the official service list for this proceeding.

Comment Date: August 23, 2002.

3. Pacific Gas and Electric Company

[Docket Nos. ER02-358-003, ER01-2998-003, and EL02-64-003]

Take notice that on July 25, 2002, Pacific Gas and Electric Company (PG&E) tendered for filing an errata to its filing dated July 15, 2002 of a Settlement Agreement pursuant to Rule 602 of the Commission's Rules of Practice and Procedure, 18 CFR 385.602. The Settlement Agreement replaces Interconnection Agreements between PG&E and the Northern California Power Agency (NCPA) and between PG&E and the City of Santa Clara, Silicon Valley Power (SVP), on file with the Commission as PG&E First Revised Rate Schedules FERC Nos. 142 and 85. The errata consists of an appendix F to each of these Interconnection Agreements, which Appendices were inadvertently omitted from the July 15, 2002 filing.

Copies of this filing have been served upon all members of he Official Service Lists of the above-mentioned Dockets, the California Public Utilities Commission, and the California Independent System Operator Corporation.

Comment Date: August 15, 2002.

4. Tampa Electric Company

[Docket No. ER02-1663-002]

Take notice that on July 26, 2002, Tampa Electric Company (Tampa Electric) filed a revised unexecuted transmission service agreement between Tampa Electric and Calpine Energy Services, Inc. in compliance with the Federal Energy Regulatory Commission's “Order Conditionally Accepting for Filing Unexecuted Service Agreement, As Modified,” issued in Docket No. ER02-1663-000 on June 27, 2002.

A copy of the compliance filing has been served on each person on the service list in Docket No. ER02-1663-000 and the Florida Public Service Commission.

Comment Date: August 16, 2002.

5. Blythe Energy, LLC

[Docket No. ER02-2018-001]

Take notice that on July 26, 2002, Blythe Energy, LLC (Blythe) tendered for filing with the Federal Energy Regulatory Commission a letter submitting certain additional information with respect to Blythe's Application for market-based rate authority filed on June 5, 2002.

Comment Date: August 12, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-20026 Filed 8-7-02; 8:45 am]

BILLING CODE 6717-01-P